DEPARTMENT OF HEALTH AND HUMAN SERVICES

Administration for Children and Families

Tribal Consultation Meetings

AGENCY: Office of Head Start (OHS), Administration for Children and Families, Department of Health and Human Services.

ACTION: Notice of meeting.

SUMMARY: Pursuant to the Improving Head Start for School Readiness Act of 2007, Public Law 110-134, notice is hereby given of a 1-day Tribal Consultation Session to be held between the Department of Health and Human Services (HHS), Administration for Children and Families, OHS leadership and the leadership of Tribal Governments operating Head Start (including Early Head Start) programs. The purpose of these Consultation Sessions is to discuss ways to better meet the needs of American Indian and Alaska Native children and their families, taking into consideration funding allocations, distribution formulas, and other issues affecting the delivery of Head Start services in their geographic locations [42 U.S.C. 9835, Section 640(l)(4)].

DATES: October 19, 2016, from 8:00 a.m. to 1:00 p.m.

LOCATION: ThrivAlaska Head Start Center at 1949 Gilliam Way, Fairbanks, Alaska 99701.

FOR FURTHER INFORMATION CONTACT: Angie Godfrey, Regional Program Manager, Region XI AI/AN, OHS, email Angie.Godfrey@acf.hhs.gov, or phone (202) 205-5811. Additional information and online meeting registration is available at: http://eclkc.ohs.acf.hhs.gov/hslc/hs/calendar/tc2016.

SUPPLEMENTARY INFORMATION: HHS announces OHS Tribal Consultations for leaders of Tribal Governments operating Head Start and Early Head Start programs. The agenda for the scheduled OHS Tribal Consultations in Fairbanks, Alaska, will be organized around the statutory purposes of Head Start Tribal Consultations related to meeting the needs of American Indian and Alaska Native children and families, taking into consideration funding allocations, distribution formulas, and other issues affecting the delivery of Head Start services in that geographic location. In addition, OHS will share actions taken and in progress to address the issues and concerns raised in the 2016 OHS Tribal Consultation.

The Consultation Session will be conducted with elected or appointed leaders of Tribal Governments and their designated representatives [42 U.S.C. 9835, Section 640(l)(4)(A)]. Designees must have a letter from the Tribal Government authorizing them to represent the tribe. Tribal Governments must submit the designee letter at least 3 days in advance of the Consultation Session to Angie Godfrey at Angie.Godfrey@acf.hhs.gov. Other representatives of tribal organizations and Native nonprofit organizations are welcome to attend as observers.

A detailed report of the Consultation Session will be prepared and made available within 45 days of the Consultation Session to all Tribal Governments receiving funds for Head Start and Early Head Start programs. Tribes wishing to submit written testimony for the report should send testimony to Angie Godfrey at Angie.Godfrey@acf.hhs.gov either prior to the Consultation Session or within 30 days after the meeting. OHS will summarize oral testimony and comments from the Consultation Session in a report without attribution, along with topics of concern and recommendations.

Dated: August 26, 2016.
Blanca E. Enriquez,
Director, Office of Head Start.

[FR Doc. 2016-21047 Filed 8-31-16; 8:45 am]

BILLING CODE 4184-40-P